DEPARTMENT OF LABOR

Employment and Training Administration

[TA-W-61,441]

Reitter & Schefenacker USA LP Lighting Division Including On-Site Leased Workers of Kelly Services, Hamilton-Ryker and Manpower, Selmer, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 5, 2007, applicable to workers of Reitter & Schefenacker USA LP, Lighting Division, including on-site leased workers of Kelly Services and Hamilton-Ryker, Selmer, Tennessee. The notice will be published soon in the Federal Register.

At the request of a company official, the Department reviewed the certification for workers of the subject firm. The workers are engaged in the production of automobile turn signals and tail lights.

New information shows that leased workers of Manpower were employed on-site at the Selmer, Tennessee location of Reitter & Schefenacker USA LC, Lighting Division.

Based on these findings, the Department is amending this certification to include leased workers of Manpower working on-site at Reitter & Schefenacker USA LP, Lighting Division, Selmer, Tennessee.

The intent of the Department's certification is to include all workers employed at Reitter & Schefenacker USA LP, Lighting Division, Selmer, Tennessee who were adversely affected by a shift in production to Mexico.

The amended notice applicable to TA-W-61,441 is hereby issued as follows:

“All workers of Reitter & Schefenacker USA LP, Lighting Division, including on-site leased workers of Kelly Services, Hamilton-Ryker and Manpower, Selmer, Tennessee, who became totally or partially separated from employment on or after April 2, 2006, through July 5, 2009, are eligible to apply for adjustment assistance under Section 223 of the Trade Act of 1974, and are also eligible to apply for alternative trade adjustment assistance under Section 246 of the Trade Act of 1974.”

Signed at Washington, DC, this 17th day of July 2007.
Elliott S. Kushner,
Certifying Officer, Division of Trade Adjustment Assistance.

[FR Doc. E7-14223 Filed 7-23-07; 8:45 am]

BILLING CODE 4510-FN-P